DEPARTMENT OF ENERGY

Federal Energy Regulatory Commission

[Docket No. RP00-468-001]

Texas Eastern Transmission, LP; Notice of Compliance Filing

August 7, 2001.

Take notice that on July 31, 2001, Texas Eastern Transmission, LP (Texas Eastern) tendered for filing pro forma tariff sheets in compliance with Order No. 637 and in conformance with order of the Commission issued in the captioned docket on June 12, 2001.

Texas Eastern states that the purpose of this filing is to comply with the requirement of Order No. 637 et seq. to file pro forma tariff sheets for the purpose of implementing certain tariff changes relating to scheduling procedures, capacity segmentation, imbalance management, and penalties, or to explain why the Order No. 637 requirements do not apply to the pipeline's tariff and operating practices and with the Commission's June 12, 2001 order to refile, as appropriate, Order No. 637 pro forma tariff sheets.

Texas Eastern states that copies of its filing have been mailed to all affected customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20243 Filed 8-10-01; 8:45 am]

BILLING CODE 6717-01-P